NATIONAL SCIENCE FOUNDATION

Sunshine Act Meetings

The National Science Board's (NSB) Committee on Science and Engineering Policy hereby gives notice of the scheduling of a teleconference for the transaction of National Science Board business pursuant to the National Science Foundation Act and the Government in the Sunshine Act.

TIME AND DATE:

Monday, November 14, 2022, from 12:00 p.m.-12:30 p.m. EST.

Friday, November 18, 2022, from 3:30 p.m.-4:00 p.m. EST.

PLACE: This meeting will be held by video conference through the National Science Foundation.

STATUS: Open.

MATTERS TO BE CONSIDERED:

The agenda for the November 14 meeting is: Chair's opening remarks; discussion of the narrative outline for the SEI 2024 Higher Education 2024 thematic report.

The agenda for the November 18 meeting is: Chair's opening remarks; discussion of the narrative outline for the SEI 2024 Labor Force thematic report.

CONTACT PERSON FOR MORE INFORMATION: Point of contact for this meeting is: (Chris Blair, cblair@nsf.gov), 703/292-7000. The link to a You Tube livestream will be available from the meeting notice web page: https://www.nsf.gov/nsb/meetings/index.jsp.

Christopher Blair,
Executive Assistant to the National Science Board Office.

[FR Doc. 2022-24640 Filed 11-7-22; 4:15 pm]

BILLING CODE 7555-01-P